DEPARTMENT OF THE INTERIOR

Bureau of Land Management

[OR-HAG 07-0181]

Medford District Resource Advisory Committee: Meeting

Pursuant to the Federal Advisory Committee Act, the Department of the Interior Bureau of Land Management (BLM) announces the following advisory committee meeting:

Name: Medford District Resource Advisory Committee.

Time and Date: 9 a.m., August 29, 2007. Public Input: 1 p.m.-1:30 p.m.

Place: Medford District Office, 3040 Biddle Road, Medford, OR 97504.

Status: Open to the public.

Matters To Be Considered: The Resource Advisory Committee will consider proposed projects for Title II funding that focus on maintaining or restoring water quality, land health, forest ecosystems, and infrastructure.

Contact Person for More Information: Program information, meeting records and a roster of Committee members may be obtained from Jim Whittington, 3040 Biddle Road, Medford, OR 97504; (541) 618-2220. The meeting agenda will be posted at http://www.blm.gov/or/districts/medford/newsroom/index.php when available. Should you require reasonable accommodation, please contact the BLM Medford District at (541) 618-2200 as soon as possible.

Timothy B. Reuwsaat,
District Manager, Bureau of Land Management, Medford District.

[FR Doc. E7-16298 Filed 8-17-07; 8:45 am]

BILLING CODE 4310-33-P